DEPARTMENT OF EDUCATION

Office of Vocational and Adult Education, Department of Education; Notice of Funding of Continuation Grants and Waiver for the Career Resources Network (CRN) Program

SUMMARY: The Secretary waives the requirements in Education Department General Administrative Regulations, in 34 CFR 75.250, that generally prohibit project periods exceeding five years and announces the funding of continuation grants for the CRNs. This waiver enables the current, eligible CRNs, which implement Statewide, systemic strategies for providing career information resources, to continue to receive Federal funding beyond the five-year limitation.

DATES: This notice is effective July 27, 2005.

FOR FURTHER INFORMATION CONTACT: Sharon A. Jones, U.S. Department of Education, 400 Maryland Avenue, SW., room 11108, Potomac Center Plaza, Washington, DC 20202-7120. Telephone (202) 245-7803.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: Under the Administrative Procedure Act (APA) (5 U.S.C. 553), the Department generally offers interested parties the opportunity to comment on proposed regulations. However, on July 14, 2005, in accordance with section 553(b) of the APA, the Department gave actual notice to all current, eligible CRN grantees of our proposal to waive 34 CFR 75.250 and to fund continuation grants instead of holding a new grant competition, and invited comments on our proposal. This waiver enables the Secretary to provide additional funds to all current, eligible grantees for additional periods for as long as Congress continues to appropriate funds for the existing statutory program and during any transition to a new statutory authority. There are no substantive differences between the actual notice of our proposal and this notice of funding of continuation grants and waiver. Therefore, all affected parties were provided actual notice of the Department's proposal and an opportunity to comment in lieu of publication of a notice of proposed rulemaking in the Federal Register.

Comment

In response to the actual notice of proposed funding of continuation grants and waiver, and our invitation to comment, thirteen parties submitted comments supporting the proposed waiver and the proposal to fund continuation grants for all current, eligible grantees. We did not receive any comments opposing the proposed waiver and proposal to fund continuation grants, and, therefore, no substantive changes have been made.

Waiver of Delayed Effective Date

The APA requires that a substantive rule shall be published at least 30 days before its effective date, except as otherwise provided for good cause (5 U.S.C. 553(d)(3)). We provided all 57 affected entities an opportunity to submit comments on the Secretary's proposal to waive 34 CFR 75.250 in order to continue eligible current grants. All comments received supported our proposal. In addition, given the fact that the extension of the project period is only for as long as Congress continues to appropriate funds for the existing statutory program or during a transition to any new statutory authority, and in order to make timely continuation grants to the entities affected, the Secretary has determined that a delayed effective date is unnecessary and contrary to the public interest.

Background

The CRN program supports the implementation of Statewide, systemic strategies for providing career information resources, as authorized by section 118(a) of the Carl D. Perkins Vocational and Technical Education Act of 1998 (Perkins Act) (20 U.S.C. 2328(a)). The Congress is now in the process of reauthorizing the Perkins Act, and we do not believe it would be in the public interest to hold a new competition until Congress concludes that process.

Eligible applicants for fiscal year (FY) 2005 funds under the CRN program are the entities designated by the Governor and the eligible agency under Title I of the Perkins Act for each of the 50 States, the Virgin Islands, the Commonwealth of Puerto Rico, the District of Columbia, Guam, American Samoa, the Commonwealth of the Northern Marianna Islands, and the Republic of Palau. The designated entities in the Republic of the Marshall Islands and the Federated States of Micronesia are no longer eligible to receive funds under the CRN program and therefore cannot receive continuation grants from funds appropriated for FY 2005 or subsequent fiscal years, pursuant to 48 U.S.C. 1921d(f)(1)(B)(iii).

The nature of the CRN program, in which the universe of eligible applicants is defined in the law and all eligible entities are funded, allowed us to provide actual notice in lieu of publishing a notice of proposed rulemaking, consistent with section 553(b) of the APA. Pursuant to the requirements of section 553(b) of the APA, and in order to make timely grant awards in FY 2005, on July 14, 2005, we contacted CRN grantees directly and provided them actual notice of, and requested their comments on, our proposal to waive 34 CFR 75.250 and fund continuation grants.

To avoid a lapse in the availability of career resources and related services and activities provided by the CRN grantees, the Secretary waives the requirements in 34 CFR 75.250, which prohibit project periods exceeding five years. With this waiver we can continue the CRN grants of all current, eligible grantees for as long as Congress continues to appropriate funds for the existing statutory program authority and during a transition to any new statutory program authority. It would be contrary to the public interest to have a lapse in CRN projects, especially as they are preparing for a new school year. This waiver of 34 CFR 75.250 means that: (1) current CRN grants will be continued at least through FY 2005 and possibly beyond, if Congress continues to appropriate funds for the CRN program under the current statutory authority or provides for a transition to any new statutory authority, and (2) we will not announce a new competition or make new awards in FY 2005.

We waived the requirements of 34 CFR 75.261(c)(2), which prohibit project period extensions involving the obligation of additional Federal funds, in a notice published in the Federal Register on July 31, 2002 (67 FR 49852). The waiver of 34 CFR 75.261(c)(2) is still in effect; therefore, we are not waiving this requirement in this notice.

The waivers of 34 CFR 75.250 and 75.261(c)(2) do not exempt current CRN grantees from the account closing provisions of 31 U.S.C. 1552(a), nor do they extend the availability of funds previously awarded to current CRN grantees. As a result of 31 U.S.C. 1552(a), appropriations available for a limited period may be used for payment of valid obligations for only five years after the expiration of their period of availability for Federal obligation. After that time, the unexpended balance of those funds is canceled and returned to the Treasury Department and is unavailable for restoration for any purpose.

Regulatory Flexibility Act Certification

The Secretary certifies that this notice of funding of continuation grants and waiver will not have a significant economic impact on a substantial number of small entities. The only entities that would be affected are the 57 current, eligible CRN grantees.

Paperwork Reduction Act of 1995

This notice of funding of continuation grants and waiver does not contain any information collection requirements.

Intergovernmental Review

This program is subject to the requirements of Executive Order 12372 and the regulations in 34 CFR part 79. The objective of the Executive Order is to foster an intergovernmental partnership and a strengthened federalism by relying on processes developed by State and local governments for coordination and review of proposed Federal financial assistance.

In accordance with the order, we intend this document to provide early notification of the Department's specific plans and actions for this program.

Assessment of Educational Impact

Based on our own review, we have determined that this notice of funding of continuation grants and waiver does not require transmission of information that any other agency or authority of the United States gathers or makes available.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number: 84.346 Career Resource Network State Grants)

Program Authority: 20 U.S.C. 2328.

Dated: July 22, 2005.
Susan Sclafani,
Assistant Secretary for Vocational and Adult Education.

[FR Doc. 05-14948 Filed 7-25-05; 1:28 pm]

BILLING CODE 4000-01-P